DEPARTMENT OF ENERGY

Federal Energy Regulatory Commission

[Docket No. AD11-1-000]

Reliability Monitoring, Enforcement and Compliance Issues; Notice of Technical Conference

October 1, 2010.

The Federal Energy Regulatory Commission (Commission) will hold a Commissioner-led Technical Conference in the above-referenced proceeding to explore issues associated with reliability monitoring, enforcement and compliance, as announced in the Commission's order issued September 16, 2010 that accepted the North American Electric Reliability Corporation's initial assessment in Docket No. RR09-7-000 of its performance as the nation's Electric Reliability Organization (ERO), and performance by the Regional Entities, under their delegation agreements with the ERO.¹

¹ North American Electric Reliability Corporation; Reliability Standards Development and NERC and Regional Entity Enforcement, 132 FERC ¶ 61,217 at P 12 (2010).

This Technical Conference will be held on November 18, 2010, in the Commission Meeting Room (2C) at Commission Headquarters, 888 First Street, NE., Washington, DC 20426, from 1 p.m. until 5 p.m. EST. The conference will be transcribed and Webcast. Transcripts of the conference will be immediately available for a fee from Ace-Federal Reporters, Inc. (202-347-3700 or 1-800-336-6646). A free webcast of the conference is also available through http://www.ferc.gov. Anyone with Internet access who desires to listen to this event can do so by navigating to http://www.ferc.gov's Calendar of Events and locating this event in the Calendar. The event will contain a link to its webcast. The Capitol Connection provides technical support for the webcasts and offers the option of listening to the meeting via phone-bridge for a fee. If you have any questions, visit http://www.CapitolConnection.org or call 703-993-3100.

A further notice with detailed information, including the agenda, will be issued in advance of the conference. All interested parties are invited and there is no registration list or registration fee to attend.

For further information contact Gregory Campbell by e-mail at Gregory.Campbell@ferc.gov or by phone at 202-502-6465.

Kimberly D. Bose,
Secretary.

[FR Doc. 2010-25505 Filed 10-8-10; 8:45 am]

BILLING CODE 6717-01-P